SECURITIES AND EXCHANGE COMMISSION

[Release No. 34-101091; File No. 4-820]

Options Price Reporting Authority; Notice of Designation of a Longer Period for Commission Action on a Proposed Amendment To Modify the OPRA Plan Relating to Dissemination of Exchange Proprietary Market Data Information

September 18, 2024.

On November 8, 2023, the Cboe Exchange, Inc., Cboe C2 Exchange, Inc., Cboe BZX Exchange, Inc., and Cboe EDGX Exchange, Inc. filed with the Securities and Exchange Commission (“Commission”) a proposal (“Proposed Amendment”) to amend the plan of the Options Price Reporting Authority (“OPRA”) for reporting of consolidated options last sale reports and quotation information (“OPRA Plan”).¹ The proposed amendment was published for comment in the Federal Register on January 22, 2024.²

¹ See https://cdn.opraplan.com/documents/OPRA_Plan.pdf.

² See Securities Exchange Act Release No. 99345 (Jan. 16, 2024), 89 FR 3963 (Jan. 22, 2024) (“Notice”). Comments received in response to the Notice are available on the Commission's website at https://www.sec.gov/comments/4-820/4-820.htm.

On April 19, 2024, the Commission instituted proceedings pursuant to Rule 608(b)(2)(i) of Regulation NMS ³ to determine whether to approve or disapprove the Proposed Amendment or to approve the Proposed Amendment with any changes or subject to any conditions the Commission deems necessary or appropriate.⁴ On July 11, 2024, pursuant to Rule 608(b)(2)(i) of Regulation NMS,⁵ the Commission extended the period within which to conclude proceedings regarding the Proposed Amendment to 240 days from the date of publication of the Notice.⁶ The 240th day after publication of the Notice is September 18, 2024.

³ 17 CFR 242.608(b)(2)(i).

⁴ See Securities Exchange Act Release No. 99994 (Apr. 19, 2024), 89 FR 31785 (Apr. 25, 2024) (“Order Instituting Proceedings”). Comments received in response to the Order Instituting Proceedings are available on the Commission's website at https://www.sec.gov/comments/4-820/4-820.htm.

⁵ See 17 CFR 242.608(b)(2)(i).

⁶ See Securities Exchange Act Release No. 100495 (July 11, 2024), 89 FR 58212 (July 17, 2024).

Rule 608(b)(2)(ii) of Regulation NMS ⁷ provides that the time for conclusion of proceedings to determine whether a national market system plan or proposed amendment should be disapproved may be extended for an additional period up to 60 days (up to 300 days from the date of notice publication) if the Commission determines that a longer period is appropriate and publishes the reasons for such determination or the plan participants consent to the longer period. The Commission is extending this 240 day period.

⁷ See 17 CFR 242.608(b)(2)(ii).

The Commission finds that it is appropriate to designate a longer period within which to conclude proceedings regarding the Proposed Amendment so that it has sufficient time to consider the important policy issues raised by the Proposed Amendment and the comments received. Accordingly, pursuant to Rule 608(b)(2)(ii) of Regulation NMS,⁸ the Commission designates November 15, 2024, as the date by which the Commission shall conclude the proceedings to determine whether to approve or disapprove the Proposed Amendment or to approve the Proposed Amendment with any changes or subject to any conditions the Commission deems necessary or appropriate (File No. 4-820).

⁸ Id.

By the Commission.
Vanessa A. Countryman,
Secretary.

[FR Doc. 2024-21767 Filed 9-23-24; 8:45 am]

BILLING CODE 8011-01-P